DEPARTMENT OF DEFENSE

Office of the Secretary

[Docket ID DoD-2008-OS-0137]

Privacy Act of 1974; System of Records

AGENCY: Defense Logistics Agency, DoD.

ACTION: Notice to add a system of records.

SUMMARY: The Defense Logistics Agency is proposing to add a system of records to its inventory of record systems subject to the Privacy Act of 1974 (5 U.S.C. 552a), as amended.

DATES: This action will be effective on December 12, 2008 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The proposed systems reports, as required by 5 U.S.C. 552a(r) of the Privacy Act of 1974, as amended, were submitted on October 24, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

S330.50

System name:

Reasonable Accommodation Request Records.

System location:

Equal Employment Opportunity Office, Headquarters, Defense Logistics Agency, ATTN: DO, 8725 John J. Kingman Road, Stop 2533, Fort Belvoir, VA 22060-6221 and the Equal Employment Opportunity Offices at the DLA Field Activities. Official mailing addresses are published as an appendix to DLA's compilation of systems of records notices.

Categories of individuals covered by the system:

Current and former Defense Logistics Agency employees and applicants with disabilities who have requested reasonable accommodations under The Rehabilitation Act of 1973, as amended.

Categories of records in the system:

Requests for reasonable accommodations; medical documents; notes or records made during consideration of requests; decisions on requests; records made to implement or track decisions on requests.

Authority for maintenance of the system:

The Rehabilitation Act of 1973, as amended; 29 U.S.C. 791, Employment of Individuals with Disabilities; E.O. 13163, Increasing the Opportunity for Individuals with Disabilities to be Employed in the Federal Government; and E.O. 13164, Requiring Federal Agencies to Establish Procedures to Facilitate the Provision of Reasonable Accommodation.

Purpose(s):

This system is maintained for the purpose of considering, deciding, and implementing requests for reasonable accommodation made by DLA employees and applicants with disabilities. The system documents and tracks requests made to DLA for reasonable accommodation, and action taken by DLA in response to the requests. It also serves as a reference source for inquiries and responses thereto on a “need-to-know” basis only. The Disability Program Coordinators (DPC) in each field activity will use these records to develop cumulative records, without individual identifiers, which could include trend and cost analysis, to track performance in regard to the provision of reasonable accommodation by DLA. The DPC will also use these records to develop a qualitative assessment of the local program, to include recommendations for improvement, for submission to the DLA Disability Program Manager (DPM).

On a need-to-know basis, information is provided to DLA supervisors and managers about necessary restrictions on work or duties of the employee and about the necessary accommodations.

Records will be used by DLA to track agency compliance with E.O. 13164 and U.S. Equal Employment Opportunity Commission (EEOC) guidance.

Routine uses of records maintained in the system, including categories of users and the purposes of such uses:

In addition to those disclosures generally permitted under 5 U.S.C. 552a(b) of the Privacy Act, these records and information contained therein may specifically be disclosed outside DOD as a routine use pursuant to 5 U.S.C. 552a(b)(3) as follows:

To first aid and safety personnel, when appropriate, if the disability might require emergency treatment.

To the Department of Labor, in certain circumstances, for workers' compensation claims.

To Federal Government officials charged with the responsibility of investigating the Defense Logistics Agency's compliance with The Rehabilitation Act of 1973, as amended.

To the U.S. Equal Employment Opportunity Commission (EEOC) when requested in connection with an investigation into alleged or possible discriminatory practices in the Federal sector, examination of Federal affirmative employment programs, compliance by Federal agencies with the Uniform Guidelines on Employee Selection Procedures, or other functions vested in the Commission.

To the Office of Personnel Management; Merit System Protection Board; and/or Office of Special Counsel, to provide data without personal identifiers for other federally mandated reporting requirements.

Note: In each of these cases, DLA will determine whether disclosure of the records is compatible with the purpose for which the records were collected.

The DOD “Blanket Routine Uses” also apply to this system of record.

Policies and practices for storing, retrieving, accessing, retaining, and disposing of records in the system:

Storage:

Records are stored on paper and/or on electronic storage media.

Retrievability:

Records are retrieved by the individual's name and the date of the request for accommodation or by type of accommodation.

Safeguards:

Records are maintained in a secure, limited access, or monitored work area. Physical entry by unauthorized persons is restricted by the use of locks, guards, or administrative procedures. Access to personal information is restricted to those who require the records in the performance of their official duties. Access to computer records is further restricted by the use of passwords which are changed periodically. All personnel whose official duties require access to the information are to have been trained in the proper safeguarding and use of the information, and are to have taken Information Assurance and Privacy Act training.

Retention and disposal:

General files are destroyed three years after supersession or when no longer needed for reference whichever is later. These include agency-wide and departmental procedures for receiving, processing, and appealing requests for reasonable accommodation by employees and applicants. Files may include, but are not limited to, instructions, directives, notices, forms, timetables and guidelines for requesting, processing and approving requests and for appealing decisions for reasonable accommodation. Also included are records notifying the U.S. Equal Employment Opportunity Commission (EEOC), the agency's collective bargaining representative(s), and the agency's Equal Employment Opportunity office of the agency's reasonable accommodation request and processing procedures as well as modifications to established procedures.

Employee case files are destroyed three years after employee separation from the agency or when all appeals are concluded, whichever is later. These include individual employee files that are created, received, and maintained by the DLA Disability Program Manager, DLA Field Activity Disability Program Coordinators or employee relations coordinators, immediate supervisors, Computer/Electronic Accommodation Program (CAP) administrator, or Human Resource specialists containing records of requests by or for an employee or applicant for employment for reasonable accommodation and/or assistive technology devices and services through the agency or CAP. This series also includes, but is not limited to, request approvals and denials, notice of procedures for informal dispute resolution or appeal processes, forms, correspondence, emails, records of oral conversations, medical documentation, and notes.

Supplemental files are destroyed three years after end of fiscal year in which accommodation is decided or when all appeals are concluded, whichever is later. Supplemental files may include records created, received, and maintained by the DLA Disability Program Manager, DLA Field Activity Disability Program Coordinators or employee relations coordinators, while advising on, implementing or appealing requests for or from an individual employee or applicant for employment for reasonable accommodation. Some requests may involve Human Resource matters, including but not limited to changes in duties, reassignments, leave usage, and performance issues. Files may include, but are not limited to, policy guidance, resource information about accommodation providers, forms, emails, notes.

Tracking system records and data created, received, and maintained for purposes of tracking agency compliance with Executive Order 13164 and U.S. Equal Employment Opportunity Commission (EEOC) guidance are deleted/destroyed three years after compliance report is filed or when no longer needed for reference.

Systems manager(s) and address:

Director, Equal Employment Opportunity, Headquarters, Defense Logistics Agency, 8725 John J. Kingman Road, Fort Belvoir, VA 22060-6221.

Notification procedure:

Individuals seeking to determine whether information about themselves is contained in this system should address written inquiries to the Privacy Act Office, Headquarters, Defense Logistics Agency, ATTN: DGA, 8725 John J. Kingman Road, Suite 1644, Fort Belvoir, VA 22060-6221 or to the Privacy Act Office of the DLA Field Activity where Reasonable Accommodation was requested. Official mailing addresses are published as an appendix to DLA's compilation of systems of records notices.

Written inquiry should contain the individual's full name and the date of the request for accommodation.

Record access procedures:

Individuals seeking access to information about themselves contained in this system should address written inquiries to the Privacy Act Office, Headquarters, Defense Logistics Agency, ATTN: DGA, 8725 John J. Kingman Road, Suite 1644, Fort Belvoir, VA 22060-6221 or to the Privacy Act Office of the DLA Field Activity where Reasonable Accommodation was requested. Official mailing addresses are published as an appendix to DLA's compilation of systems of records notices.

Written inquiry should contain the individual's full name and the date of the request for accommodation.

Contesting record procedures:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

Record source categories:

Individual requesting Reasonable Accommodation, input from individual's supervisor/manager, documentation from individual's medical practitioner, and/or agency medical representative.

Exemptions claimed for the system:

None.

[FR Doc. E8-26776 Filed 11-10-08; 8:45 am]

BILLING CODE 5001-06-P